DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Open notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than March 21, 2002.

Also, interested persons are invited to submit written comments regarding the subject matter of the petitions to the Director of DTAA at the address shown below not later than March 21, 2002.

Petitions filed with the Governors are available for inspection at the Office of the Director, DTAA, ETA, DOL, Room C-5311, 200 Constitution Avenue, NW., Washington, DC 20210.

Signed at Washington, DC this 28th day of February 2002.
Edward A. Tomchick,
Director, Division of Trade Adjustment Assistance.

Appendix
Subject firm | Location | Date received at Governor's office | Petition number | Articles produced
Corning Cable (Wkrs) | Hickory, NC | 01/02/2002 | NAFTA-5,735 | fiber optic cable.
Solon Manufacturing (Co.) | Skowhegan, ME | 01/16/2002 | NAFTA-5,736 | ice cream sticks.
Harsco Corp.—Heckett Multiserv (Wkrs) | Whiting, IN | 01/15/2002 | NAFTA-5,737 | steel.
Drexel Heritage Furnshings (Co.) | Drexel, NC | 01/22/2002 | NAFTA-5,738 | residential furniture.
Shield Acquisition—Coldwell Moser (Co.) | New Albany, IN | 01/22/2002 | NAFTA-5,739 | saddle skirting.
Rem Electronics Supply (Co.) | El Paso, TX | 01/22/2002 | NAFTA-5,740 | distributed electronics parts.
Western Power Products (Co.) | Hood River, OR | 01/14/2002 | NAFTA-5,741 | fiberglass enclosures.
Cannon County Knitting Mills (Wkrs) | Smithville, TN | 01/22/2002 | NAFTA-5,742 | knit wearing apparel.
Zeeland Chemical—Cambrex Corp. (Wkrs) | Zeeland, MI | 01/22/2002 | NAFTA-5,743 | chemicals.
Haworth (Wkrs) | Haworth, MI | 01/22/2002 | NAFTA-5,744 | chairs.
Gold Toe Brands (Co.) | Bally, PA | 01/18/2002 | NAFTA-5,745 | men and women's socks.
Loranger Manufacturing (Co.) | Warren, PA | 01/18/2002 | NAFTA-5,746 | apparel.
Park Hannifin (Wkrs) | Reading, PA | 01/28/2002 | NAFTA-5,747 | repair multi spindle screw machines.
J and E International Sales (Co.) | El Paso, TX | 01/18/2002 | NAFTA-5,748 | sales/distribution of copper tubing.
Goodyear Dunlop Tires N.A. (USWA) | Huntsville, AL | 01/18/2002 | NAFTA-5,749 | radial passenger and light truck tires.
Telex Communications (Wkrs) | Buchanan, MI | 01/28/2002 | NAFTA-5,750 | audio service.
Goodyear Tire and Rubber (USWA) | East Gadsden, AL | 01/15/2002 | NAFTA-5,751 | radial passenger tires and hummer.
Cascade General (Co.) | Portland, OR | 01/07/2002 | NAFTA-5,752 | pump shafts.
Salem Oil and Grease (Co.) | Salem, MA | 01/16/2002 | NAFTA-5,753 | leather softness, waxes and greases.
Polariod Corporation (Wkrs) | Camb, MA | 01/17/2002 | NAFTA-5,754 | film and equipment.
Delphi Automotive System (Wkrs) | Oak Creek, WI | 01/16/2002 | NAFTA-5,755 | auto body computers phones and service.
AT and T (Co.) | Los Angeles, CA | 01/07/2002 | NAFTA-5,756 | phones and service.
Wateree Textile (Co.) | Lugoff, SC | 01/17/2002 | NAFTA-5,757 | taffata lining fabrics.
Bosch Rexroth Croporation (IAMAW) | Sturtevant, WI | 01/16/2002 | NAFTA-5,758 | hydraulic pumps, vales, manifolds.
Hoffman Enclosures—Pentair (Wkrs) | Anoka, MN | 01/16/2002 | NAFTA-5,759 | enclosures.
Donaldson Company (Co.) | Nicholasville, KY | 01/25/2002 | NAFTA-5,760 | panels, hoppers, fan assemblies.
Clear Pine Mouldings (Wkrs) | Prineville, OR | 01/22/2002 | NAFTA-5,761 | doors and windows for residentual.
JTD, Inc. (Wkrs) | Tigard, OR | 01/25/2002 | NAFTA-5,762 | aluminum tooling (castings).
Leavitt Communications (Wkrs) | Lincolnshire, IL | 02/20/2002 | NAFTA-5,763 | wireless products.
J. Dashew, Inc. (Wkrs) | Baltimore, MD | 11/14/2002 | NAFTA-5,764 | industrial sewing machine and supplies.
Prudential Steel—Maverick Tube (Wkrs) | Langview, WA | 01/25/2002 | NAFTA-5,765 | steel.
Badger States Tanning (Wkrs) | Milwaukee, WI | 01/28/2002 | NAFTA-5,766 | suede leather splits.
Huhtamaki Foodservices, Chinet Co. (The) (PACE) | Waterville, ME | 01/23/2002 | NAFTA-5,767 | laminated pulp molded plates.
Ultrafem, Inc. (Co.) | Missoula, MT | 01/17/2002 | NAFTA-5,768 | sanitary protection products.
Materials Processing (Co.) | Riverview, MI | 01/22/2002 | NAFTA-5,769 | coated axle.
Kolenda Tool and Die (Co.) | Wyoming, MI | 01/23/2002 | NAFTA-5,770 | injection molds and plastic molded parts.
Dillon Yarn (Wkrs) | Dillon, SC | 01/23/2002 | NAFTA-5,771 | yarn.
Asarco, Inc.—Amarillo Copper Refinery (USWA) | Amarillo, TX | 01/23/2002 | NAFTA-5,772 | copper.
Superior Milling (Wkrs) | Watersmeet, MI | 01/23/2002 | NAFTA-5,773 | green lumber.
Xpectra, Inc. (Wkrs) | Santa Cruz, CA | 01/18/2002 | NAFTA-5,774 | plastic injection moldings.
Printing Arts America (Wkrs) | Brisbane, CA | 01/22/2002 | NAFTA-5,775 | printed materials.
Blauer Manufacturing—CAM Corp. (Co.) | Chatom, AL | 01/23/2002 | NAFTA-5,776 | police outerwear.
R.R. Donnelley (Wkrs) | Lynchburg, VA | 01/22/2002 | NAFTA-5,777 | catalogs.
Tyco Electronics (Wkrs) | Georgetown, KY | 01/23/2002 | NAFTA-5,778 | wiring harnesses and cable.
Brunswick Foreign Trade Zone (Wkrs) | Brunswick, GA | 01/23/2002 | NAFTA-5,779 | paper products.
AG Simpson Automotive Systems (UAW) | Sterling Heights, MI | 01/24/2002 | NAFTA-5,780 | automotive bumper assemblies.
Pak-Mor Manufacturing (Wkrs) | San Antonio, TX | 01/28/2002 | NAFTA-5,781 | front loader body shell.
Allegro Microsystems (Wkrs) | Willow Grove, PA | 01/28/2002 | NAFTA-5,782 | integrated circuits.
Maska U.S. (Co.) | Williston, VT | 01/28/2002 | NAFTA-5,783 | hockey apparel.
Ferraz Shawmut (Co.) | Newburyport, MA | 01/24/2002 | NAFTA-5,784 | electrical fuses.
Symbol Technologies (Wkrs) | Houston, TX | 01/23/2002 | NAFTA-5,785 | bar code scanners.
Flextronics Enclosures (Co.) | Kingston, PA | 01/25/2002 | NAFTA-5,786 | enclosures (cabinets).
Flextronics Enclosures (Wkrs) | Smithfield, NC | 01/29/2002 | NAFTA-5,787 | motorola cabinets.
United Central Industrial—Blue Ridge (Co.) | Bassett, VA | 01/25/2002 | NAFTA-5,788 | industrial supplies and tools.
Genelity Corp. (Wkrs) | Jessup, PA | 01/29/2002 | NAFTA-5,789 | artificial christmas trees.
Owens Illinois (Wkrs) | Newburyport, MA | 01/14/2002 | NAFTA-5,790 | plastic containers.
L and G Manufacturing (UNITE) | Archbald, PA | 01/29/2002 | NAFTA-5,791 | men's suit and dress pants.
TNS Mills (Co.) | Rockingham, NC | 01/29/2002 | NAFTA-5,792 | textile yarn.
Ferro Corporation (Wkrs | Pittsburgh, PA | 01/29/2002 | NAFTA-5,793 | glass enamels, ceramic coatings.
Emerson Electric—Daniel Measurement (Co.) | Statesboro, GA | 02/04/2002 | NAFTA-5,794 | turbine and valve product lines.
Lakemont Mfg. (Co.) | Lakemont, GA | 01/30/3002 | NAFTA-5,795 | ladies pants.
John Solomon (Co.) | Somerville, MA | 01/31/2002 | NAFTA-5,796 | textiles, pockets etc.
Engelhand Corporation (Wkrs) | McLntyre, GA | 01/30/2002 | NAFTA-5,797 | mined kaolin.
Oxford Slacks (Co.) | Monroe, GA | 01/30/2002 | NAFTA-5,798 | men's slacks.
Aalfs Manufacturing (Co.) | Texarkana, AR | 02/04/2002 | NAFTA-5,799 | denim bottoms, jeans, shorts.
FDB, Inc. (Co.) | Lincolnton, GA | 02/04/2002 | NAFTA-5,800 | men's and ladies jackets.
Associated Spring—Barnes Group (Co.) | Dallas, TX | 02/04/2002 | NAFTA-5,801 | power brake and return springs.
Justin Brands (Co.) | Ft. Worth, TX | 02/04/2002 | NAFTA-5,802 | boots.
Optek Technology (Wkrs) | Carrollton, TX | 01/30/2002 | NAFTA-5,803 | automotive plastic parts.
R.G. Barry (Co.) | Laredo, TX | 01/30/2002 | NAFTA-5,804 | slipper components.
GeoComm Corporation (Co.) | El Paso, TX | 01/30/2002 | NAFTA-5,805 | digital telecommunication services.
Accuride (Wkrs) | Columbia, TN | 01/25/2002 | NAFTA-5,806 | light truck wheel.
Angelica Corporation (Wkrs) | Savannah, TN | 01/30/2002 | NAFTA-5,807 | health care garments.
Forth, Inc.—Altex, Inc. (Co.) | Charlotte, NC | 02/04/2002 | NAFTA-5,808 | knitted cotton.
Haworth, Inc.—Myrtle Mueller (Co.) | Chadbourn, NC | 01/30/2002 | NAFTA-5,809 | file cabinet, tables.
Sanmina, Inc. (Wkrs) | Clinton, NC | 01/28/2002 | NAFTA-5,810 | metal.
Thomson Multimedia (Wkrs) | Indianapolis, IN | 02/05/2002 | NAFTA-5,811 | test equipment.
3M Bedford Park (Co.) | Bedford Park, IL | 02/05/2002 | NAFTA-5,812 | paper, film and foil pressure.
CHF Industries (Wkrs) | Loris, SC | 02/05/2002 | NAFTA-5,813 | bedding.
Tyco International (Co.) | Arab, AL | 02/04/2002 | NAFTA-5,814 | motor controls.
Angelica Corporation (Wkrs) | Collinwood, TN | 02/04/2002 | NAFTA-5,815 | hospital apparel.
Mitel Network—Network Access Solutions (Wkrs) | Ogdensburg, NY | 02/01/2002 | NAFTA-5,816 | printed circuit board.
parker Hannifin (Co.) | Sanasota, FL | 02/01/2002 | NAFTA-5,817 | valves.
S-B Power Tool (Co.) | Walnut Ridge, AR | 02/04/2002 | NAFTA-5,818 | sanders, grinders, hammers.
Seagate US LLC (Wkrs) | Oklahoma City, OK | 02/01/2002 | NAFTA-5,819 | hard disc drives.
Albany International (Co.) | Greenville, SC | 01/31/2002 | NAFTA-5,820 | paper machines.
BH Electronics (Wkrs) | Marshall, MN | 01/31/2002 | NAFTA-5,821 | transformer.
Sims Manufacturing (Co.) | Rutland, MA | 01/30/2002 | NAFTA-5,822 | tractor cabs.
LeeMah Electronics (Wkrs) | San Francisco, CA | 01/31/2002 | NAFTA-5,823 | circuit boards.
Uniroyal Goodrich Tire (USWA) | Tuscaloose, AL | 01/30/2002 | NAFTA-5,824 | radial passenger tires.
Vaapco Group—Novatch Mfg. (Co.) | Millers Tavern, VA | 01/23/2002 | NAFTA-5,825 | brake pads.
Fruit of the Loom (Wkrs) | Jamestown, KY | 01/30/2002 | NAFTA-5,826 | men's and women's underware.
Carey Industries (Co.) | Danbury, CT | 01/29/2002 | NAFTA-5,827 | textile dye.
T and K Manufacturing (Co.) | Brownstown, PA | 01/31/2002 | NAFTA-5,828 | women's undergarments.
Chambersburg Engineering (Co.) | Chambersburg, PA | 02/04/2002 | NAFTA-5,829 | heavy equipment.
D and M Tool (Co.) | Meadville, PA | 02/04/2002 | NAFTA-5,830 | jigs, dies, fixtures, molds.
Champion Part (Wkrs) | Beech Creek, PA | 02/04/2002 | NAFTA-5,831 | carburators axles.
Pittsburgh Annealing Box (USWA) | Pittsburgh, PA | 02/04/2002 | NAFTA-5,832 | annealing inner covers.
Tyco Electronics (Wkrs) | Carlisle, PA | 02/04/2002 | NAFTA-5,833 | electronic terminals.
Emerson Process Brooks Instrument (Wkrs) | Hatfield, PA | 02/04/2002 | NAFTA-5,834 | sensor winding.
Pabst Brewing (Wkrs) | Fogelsville, PA | 02/01/2002 | NAFTA-5,835 | beer and malt beverages.
Tyco Electronics (Wkrs) | Jacobus, PA | 02/05/2002 | NAFTA-5,836 | electrical connectors.
Canto Tool (Co.) | Meadville, PA | 02/05/2002 | NAFTA-5,837 | tooling.
Philadelphia Mixers (Co.) | Palmyra, PA | 02/01/2002 | NAFTA-5,838 | gearing, shafts, etc.
Square D (Co.) | Oshkosh, WI | 02/11/2002 | NAFTA-5,839 | low voltage transformers & medical panel.
McCoy Ellison (Co.) | Monroe, NC | 02/11/2002 | NAFTA-5,840 | textile equipment.
Biltwell Clothing (UNITE) | Farmington, MO | 01/30/2002 | NAFTA-5,841 | garments.
Schumacher Electric (Co.) | Hoopeston, IL | 02/05/2002 | NAFTA-5,842 | automotive battery chargers.
Dale Electronics (Wkrs) | Norfolk, NE | 02/04/2002 | NAFTA-5,843 | e-rel, mil-chip.
Argus International (Wkrs) | Medley, FL | 02/06/2002 | NAFTA-5,844 | pants, shirts and women's suits.
Hale Products (Co.) | St. Joseph, TN | 02/06/2002 | NAFTA-5,845 | portable fire pumps.
Evy of California (Wkrs) | Bakersfield, CA | 01/28/2002 | NAFTA-5,846 | apparel.
Bowater (PACE) | Coosa Pines, AL | 02/07/2002 | NAFTA-5,847 | pulp and paper.
Tee Tease LLC (Azteca)(Wkrs) | Commerce, CA | 11/07/2001 | NAFTA-5,848 | print tee shirts.
Levolor Kirsch Window Fashions (Co.) | Westminster, CA | 02/06/2002 | NAFTA-5,849 | wood and faux wood.
RHI Refractories America—AP Green Ind. (Co.) | Middletown, PA | 02/08/2002 | NAFTA-5,850 | precast refractory shapes.
California Joy (Co.) | Glendale, CA | 02/06/2002 | NAFTA-5,851 | swimwear.
Southwire Company (Co.) | Carrollton, GA | 02/07/2002 | NAFTA-5,852 | fuel tanks.
Tri Way Mfg. (Wkrs) | El Paso, TX | 02/07/2002 | NAFTA-5,853 | injection molds.
Smiths Group—Portex, Inc. (Co.) | Fort Myers, FL | 02/08/2002 | NAFTA-5,854 | Anesthesia Circuits.
Low Complexity Mfg. Group (Co.) | Utica, NY | 10/25/2002 | NAFTA-5,855 | fusel assemblies.
Black and Decker (Co.) | Nashville, TN | 02/07/2002 | NAFTA-5,856 | reconditioning of tools.
Tyco Printed Circuit Group (Wkrs) | Dallas, OR | 02/04/2002 | NAFTA-5,857 | printed circuit boards.
West Point Foundry and Machine (Co.) | West Point, GA | 02/15/2002 | NAFTA-5,858 | sale, service of textile machinery.
Schott Corporation (Co.) | Jefferson, MN | 02/15/2002 | NAFTA-5,859 | wire.
Arlee Home Fashions (Wkrs) | Leachville, AR | 02/19/2002 | NAFTA-5,860 | chairpads and pillows.
L.E. Mason Co.—Thomas and Betts (Co.) | Boston, MA | 02/11/2002 | NAFTA-5,861 | zinc.
Schrader Machine and Tool—SMT Auto (Wkrs) | Hanover, MI | 01/08/2002 | NAFTA-5,862 | auto parts.
Thomas and Betts (Co.) | Quakertown, PA | 02/15/2002 | NAFTA-5,863 | application tools.
Westwood LLC (Wkrs) | Marion, NC | 02/12/2002 | NAFTA-5,864 | cloth.
National Steel Pellet (USWA) | Keewtin, MN | 02/14/2002 | NAFTA-5,865 | steel pellet.
Exide Technologies (Co.) | Florence, MS | 02/14/2002 | NAFTA-5,866 | batteries.
Tracy Minntronix (Wkrs) | Tracy, MN | 01/31/2002 | NAFTA-5,867 | transformers.
Alcoa Wheel Products—Reynolds Wheel (Co.) | Lebanon, VA | 02/13/2002 | NAFTA-5,868 | hot forging, re-machining.
Cherry Automotive (Wkrs) | Waukegan, IL | 02/22/2002 | NAFTA-5,869 | electronic components.

[FR Doc. 02-5570 Filed 3-8-02; 8:45 am]

BILLING CODE 4510-30-M